DEPARTMENT OF TRANSPORTATION

Federal Aviation Administration

14 CFR Part 39

[Docket No. 2001-CE-04-AD; Amendment 39-12495; AD 2001-22-16]

RIN 2120-AA64

Airworthiness Directives; Raytheon Aircraft Company Beech Models 1900, 1900C (C-12J), and 1900D Airplanes

AGENCY: Federal Aviation Administration, DOT.

ACTION: Final rule.

SUMMARY: This amendment supersedes Airworthiness Directive (AD) 95-02-18, which applies to certain Raytheon Aircraft Company (Raytheon) Beech Models 1900, 1900C (C-12J), and 1900D airplanes. AD 95-02-18 requires you to repetitively inspect the engine truss assemblies for cracks, repair or replace any cracked engine truss assembly, and install reinforcement doublers. This AD requires engine truss assembly replacement, periodic inspections and replacements, and the eventual incorporation of a cowling support installation kit as terminating action. The repetitive inspections of AD 95-02-18 will be retained until mandatory engine truss assembly replacement. This AD is the result of continued reports of fatigue cracks found on engine trusses on airplanes in compliance with AD 95-02-18. The actions specified by this AD are intended to detect and correct cracked engine truss assemblies, which could result in failure of the engine truss assembly and consequent loss of airplane control.

DATES: This AD becomes effective on December 17, 2001.

The Director of the Federal Register approved the incorporation by reference of certain publications listed in the regulations as of December 17, 2001.

ADDRESSES: You may obtain the service information referenced in this AD from Raytheon Aircraft Company, P.O. Box 85, Wichita, Kansas 67201-0085; telephone: (800) 625-7043 or (316) 676-4556. You may view this information at the Federal Aviation Administration (FAA), Central Region, Office of the Regional Counsel, Attention: Rules Docket No. 2001-CE-04-AD, 901 Locust, Room 506, Kansas City, Missouri 64106; or at the Office of the Federal Register, 800 North Capitol Street, NW., suite 700, Washington, DC.

FOR FURTHER INFORMATION CONTACT: David L. Ostrodka, Aerospace Engineer, FAA, Wichita Aircraft Certification Office, 1801 Airport Road, Mid-Continent Airport, Wichita, Kansas 67209; telephone: (316) 946-4129; facsimile: (316) 946-4407.

SUPPLEMENTARY INFORMATION:

Discussion

Has FAA taken any action on the engine truss assemblies of Raytheon Beech Models 1900, 1900C (C-12J), and 1900D airplanes to this point? Continued problems with fatigue cracking of the engine truss assemblies on Raytheon Beech Models 1900, 1900C (C-12J), and 1900D airplanes caused FAA to issue AD 95-02-18, Amendment 39-9136 (60 FR 6652, February 3, 1995). This AD currently requires the following:

—Repetitive inspections of the engine truss assemblies for cracks;

—Repair or replacement of any cracked engine truss assembly; and

—Installation of reinforcement doublers.

What has happened since AD 95-02-18 to initiate this action? The FAA continues to receive reports of engine truss fatigue cracks on Raytheon Beech Models 1900, 1900C (C-12J), and 1900D airplanes. The reports reference airplanes that are in compliance with AD 95-02-18.

The fatigue cracks are developing as a result of operational stresses in joints, welded bracketry, and linoil holes sealed by drive screws.

Has FAA taken any action to this point? The FAA issued a proposal to amend part 39 of the Federal Aviation Regulations (14 CFR part 39) to include an AD that would apply to certain Raytheon Beech Models 1900, 1900C (C-12J), and 1900D airplanes. This proposal was published in the Federal Register as a notice of proposed rulemaking (NPRM) on July 11, 2001 (66 FR 36215). The NPRM proposed to supersede AD 95-02-18. The NPRM also proposed to require engine truss assembly replacement, periodic inspections and replacements, and the eventual incorporation of a cowling support installation kit as terminating action. The repetitive inspections of AD 95-02-18 would be retained until mandatory engine truss assembly replacement.

Was the public invited to comment? The FAA encouraged interested persons to participate in the making of this amendment. We did not receive any comments on the proposed rule or on our determination of the cost to the public.

FAA's Determination

What is FAA's final determination on this issue? After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

Cost Impact

How many airplanes does this AD impact? We estimate that this AD affects 236 airplanes in the U.S. registry.

What is the cost impact of this AD on owners/operators of the affected airplanes? We estimate the following costs to accomplish the following actions:

| Engine truss replacement | Drive screw inspection and replacement | Cowling support kit installation | Placard Installation
Number of airplanes affected | 12 | 236 | 210 | 234
Cost per airplane: Workhours + parts costs | 34 workhours × $60 per hour + $6,000 (average) for parts = $8,040 per airplane | 4 workhours × $60 per hour + $12 for parts = $252 per airplane | 6 workhours × $60 per hour + $35 for parts = $395 per airpalne | 1 workhour × $60 per hour + $5 for parts = $65 per airplane.
Fleet cost: Cost per airplane × number of airplanes | $8,040 × 12 airplanes = $96,480 | $252 × 236 airplanes = $59,472 | $395 × 210 airplanes = $82,950 | $65 × 234 airplanes = $15,210.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) AD 95-02-18, Amendment 39-9136 (60 FR 6652, February 3, 1995), and by adding a new AD to read as follows:

2001-22-16 Raytheon Aircraft Company (Beech Aircraft Corporation formerly held Type Certificate (TC) No. A-24CE): Amendment 39-12495; Docket No. 2001-CE-04-AD; Supersedes AD 95-02-18, Amendment 39-9136.

(a) What airplanes are affected by this AD? This AD affects the following airplane models and serial numbers that are certificated in any category:

Model | Serial No.
Beech Model 1900 | UA-2 and UA-3.
Beech Model 1900C | UB-1 through UB-74 and UC-1 through UC-174.
Beech Model 1900C (C-12J) | UD-1 through UD-6.
Beech Model 1900D | UE-1 through UE-302.

(b) Who must comply with this AD? Anyone who wishes to operate any of the above airplanes must comply with this AD.

(c) What problem does this AD address? The actions specified by this AD are intended to detect and correct cracked engine truss assemblies, which could result in failure of the engine truss assembly and consequent loss of airplane control.

(d) What actions must I accomplish to address this problem? To address this problem, you must accomplish the following:

Actions | Compliance | Procedures
(1) if you do not have a part number (P/N) 129-910047-1 129-910047-13, or 129-910047-17 engine truss assembly (or FAA-approved equivalent P/N), installed, accomplish the following: (i) Inspect the engine truss assembly for cracks and replace any cracked truss with a P/N truss specified in paragraph (d)(1)(ii) of this AD; and (ii) Replace the engine truss assembly with a P/N 129-910047-1, 129-910047-13, or 129-910047-17 assembly (or FAA-approved equivalent P/N) | Inspect in accordance with the schedule outlined in the Appendix to this AD (taken from AD 95-02-18, as specified in Raytheon Aircraft Mandatory Service Bulletin No. 2255, Revision 10, Revised, June, 1999). Replace within the next 100 hours time-in-service (TIS) after December 17, 2001 (the effective date of this AD) if the truss is not cracked and prior to further flight if the truss is cracked | Inspect and replace in accordance with the instructions in Raytheon Aircraft Mandatory Service Bulletin No. 2255. Revision 10, Revised, June, 1999. Accomplishing the inspection (only) using a previous revision to this service bulletin is acceptable.
(2) For airplanes equipped with a P/N 129-910047-1 or 129-910047-13 engine truss assembly (or FAA-approved equivalent P/N), inspect for linoil hole mislocation and cracks in Area A as depicted in the referenced service information and replace the engine truss assembly if any mislocated hole or crack is found during any inspection | Inspect upon accumulating 100 hours TIS on the engine truss assembly (or within 25 hours TIS after December 17, 2001 (the effective date of this AD), whichever occurs later, unless already done, and thereafter at intervals not to exceed 100 hours TIS. Accomplish any necessary engine truss assembly replacement prior to further flight where any mislocated hole or crack is found | Accomplish inspections and replacements in accordance with Part I of the ACCOMPLISHMENT INSTRUCTIONS section of Raytheon Aircraft Mandatory Service Bulletin SB 71-3144, Revision 1, Revised: April, 1999.
(3) For airplanes equipped with a P/N 129-910047-1 or 129-910047-13 engine truss assembly (or FAA-approved equivalent P/N), accomplish the following: (i) Inspect the engine cowling support bracket for cracks and rework any cracked engine crowling support bracket; and (ii) Install Kit No. 129-9017-1 reinforcements on the engine cowling support bracket. The inspections required by paragraph (d)(3)(i) of this AD are no longer necessary when Kit No. 129-9017-1 is incorporated | Inspect upon accumulating 200 hours TIS on the engine truss assembly or within 25 hours TIS after December 17, 2001 (the effective date of this AD), whichever occurs later, unless already done, and thereafter at intervals not to exceed 200 hours TIS. Accomplish any necessary engine cowling support rework prior to further flight where any cracked bracket is found. Install the engine cowling support bracket reinforcements upon accumulating 1,200 hours TIS on the engine truss assembly or within the next 100 hours TIS after December 17, 2001 (the effective date of this AD), whichever occurs later | Accomplish inspections, repairs, and installations in accordance with Part III of the ACCOMPLISHMENT INSTRUCTIONS section of Raytheon Aircraft Mandatory Service Bulletin SB 71-3144, Revision 1, Revised: April, 1999.
(4) For airplanes equipped with a P/N 129-910047-1 or 129-910047-13 engine truss assembly (or FAA-approved equivalent P/N), replace all remaining linoil drive screws (those not in Area A). The inspections required by paragraph (d)(2) of this AD are no longer required when these screws are replaced | Upon accumulating 8,000 hours TIS on the engine truss assembly or at the next engine truss assembly removal, whichever occurs later | Accomplish these replacements in accordance with Part II of the ACCOMPLISHMENT INSTRUCTIONS section of Raytheon Aircraft Mandatory Service Bulletin SB 71-3144, Revision 1, Revised: April, 1999.
(5) For airplanes equipped with a P/N 129-910047-1 or 129-910047-13 engine truss assembly (or FAA-approved equivalent P/N), install a P/N 129-910047-15 truss identification placard on the engine truss assembly | Within 12 months after December 17, 2001 (the effective date of this AD) or upon installation of a P/N 129-910047-1 or 129-910047-13 engine truss assembly, whichever occurs later | Accomplish this installation in accordance with the ACCOMPLISHMENT INSTRUCTIONS section of Raytheon Aircraft Service Bulletin SB.71-3024, Issued: September, 1997.
(6) Do not install, on any affected airplane, an engine truss assembly that is not P/N 129-910047-1, 129-910047-13, or 129-910047-17 (or FAA-approved equivalent P/N) | As of December 17, 2001 (the effective date of this AD) | Not Applicable.

(e) Can I comply with this AD in any other way?

(1) You may use an alternative method of compliance or adjust the compliance time if:

(i) Your alternative method of compliance provides an equivalent level of safety; and

(ii) The Manager, Wichita Aircraft Certification Office(ACO), approves your alternative. Submit your request through an FAA Principal Maintenance Inspector, who may add comments and then send it to the Manager, Wichita ACO.

(2) Alternative methods of compliance approved in accordance with AD 95-02-18, which is superseded by this AD, are not approved as alternative methods of compliance with this AD.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact David L. Ostrodka, Aerospace Engineer, FAA, Wichita Aircraft Certification Office, 1801 Airport Road, Mid-Continent Airport, Wichita, Kansas 67209; telephone: (316) 946-4129; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Raytheon Aircraft Mandatory Service Bulletin No. 2255. Revision 10, Revised, June, 1999, Raytheon Aircraft Mandatory Service Bulletin SB 71-3144, Revision 1, Revised: April, 1999, and Raytheon Aircraft Service Bulletin SB.71-3024, Issued: September, 1997. The Director of the Federal Register approved this incorporation by reference under 5 U.S.C. 552(a) and 1 CFR part 51. You may obtain copies from Raytheon Aircraft Company, P.O. Box 85, Wichita, Kansas 67201-0085. You may view this information at FAA, Central Region, Office of the Regional Counsel, 901 Locust, Room 506, Kansas City, Missouri, or at the Office of the Federal Register, 800 North Capitol Street, NW., suite 700, Washington, DC.

(i) Does this AD action affect any existing AD actions? This amendment supersedes AD 95-02-18, Amendment 39-9136.

(j) When does this amendment become effective? This amendment becomes effective on December 17, 2001.

Appendix to Docket No. 2001-CE-04-AD

The following is the compliance schedules for the inspections required in this AD. These are duplicated from AD 95-02-18, Amendment 39-9136:

1. For all affected airplanes having engine truss P/N 129-910032-79 installed, initially and repetitively inspect the engine truss for cracks at the weld joints in accordance with the ACCOMPLISHMENT INSTRUCTIONS section of Beech SB 2255, Revision VI, dated August 1994, at the times specified in the following chart:

Models | Area specified in figure 1 of Beech SB No. 2255, Rev. VI | Initial inspection | Repetitive inspections
1900 and 1900C | A | Upon accumulating 1,400 hours TIS * | Every 100 hours TIS.
1900 and 1900C | B and C | Upon accumulating 3,200 hours TIS * | Every 100 hours TIS.
1900D | A | Upon accumulating 3,200 hours TIS * | Every 450 hours TIS.
1900D | B and C | Upon accumulating 3,200 hours TIS * | Every 3,000 hours TIS.
* Or within the next 100 hours TIS after March 25, 1995 (the effective date of AD 95-02-18), whichever occurs later.

2. For all Models 1900 and 1900C airplanes having engine truss P/N 118-9100-25-37, P/N 118-910025-121, P/N 114-910025-1 or P/N 118-910025-1, initially and repetitively inspect the engine truss for cracks at the weld joints in accordance with the ACCOMPLISHMENT INSTRUCTIONS section of Beech Service Bulletin (SB) 2255, Revision VI, dated August 1994, at the times specified in the following chart:

Area specified in Figure 1 of Beech SB N. 2255, Rev. VI | Initial inspection | Repetitive inspections
A | Upon accumulating 1,400 hours TIS * | Every 100 hours TIS.
B | Upon accumulating 1,400 hours TIS * | Every 600 hours TIS.
C | Upon accumulating 1,400 hours TIS * | Every 3,000 hours TIS.
* Or within the next 100 hours TIS after March 25, 1995 (the effective date of AD 95-02-18), whichever occurs later.

Issued in Kansas City, Missouri, on October 26, 2001.
Michael Gallagher,
Manager, Small Airplane Directorate, Aircraft Certification Service.

[FR Doc. 01-27651 Filed 11-6-01; 8:45 am]

BILLING CODE 4910-13-P